DEPARTMENT OF ENERGY

Federal Energy Regulatory Commission

[Docket No. CP26-23-000]

Columbia Gas Transmission, LLC; Notice of Schedule for the Preparation of an Environmental Assessment for the Hunt Storage Field Abandonment Project

On November 13, 2025, Columbia Gas Transmission, LLC (Columbia) filed an application in Docket No. CP26-23-000 requesting an Authorization pursuant to Section 7(b) of the Natural Gas Act to abandon certain natural gas pipeline facilities. The proposed project is known as the Hunt Storage Field Abandonment Project (Project), and would abandon injection/withdrawal wells, observation wells, special wells, all associated pipelines and aboveground appurtenances, and the Hunt Compressor Station in Kanawha County, West Virginia. The Project would end delivery of about 12.4 million cubic feet of natural gas per day and would have no effect to existing customers.

On November 25, 2025, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review. ¹ The EA will be issued for a 30-day comment period.

¹ For tracking purposes under the National Environmental Policy Act, the unique identification number for documents relating to this environmental review is EAXX-019-20-000-1767969814.

Schedule for Environmental Review

Issuance of EA July 10, 2026

90-day Federal Authorization Decision Deadline ² October 8, 2026

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

Columbia proposes to abandon the following facilities at the Hunt Storage Field:

• Plug and abandon sixteen injection/withdrawal wells;

• Plug and abandon three observation wells;

• Plug and abandon three special wells, which are observation wells that currently serve low pressure distribution systems;

• Abandon approximately 7.18 miles of various storage pipelines in the Hunt Storage Field (0.45 mile to be abandoned by removal and 6.72 miles to be abandoned in place);

• Abandon by removal the Hunt Compressor Station, including the associated buildings, appurtenances, and aboveground station piping;

• Abandon by removal all above-ground appurtenances including pipeline markers, cathodic protection test stations, rectifiers, casing vents, and above-ground pipeline blowdown vents; and

• Abandon in place compressor station fencing, remaining below-ground piping and miscellaneous appurtenances.

Background

On December 23, 2025, the Commission issued a Notice of Scoping Period Requesting Comments on Environmental Issues for the Proposed Hunt Storage Field Abandonment Project (Notice of Scoping). The Notice of Scoping was sent to affected landowners; federal, state, and local government agencies; elected officials; environmental and public interest groups; Native American tribes; other interested parties; and local libraries and newspapers. The Commission received comments from three landowners in response to the Notice of Application. The primary issue raised by the commenters is gas deliverability. To date, the Commission has not received comments in response to the Notice of Scoping. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

For public inquiries and assistance with making filings such as interventions, comments, or requests for rehearing, contact the Office of Public Participation at (202)502-6595 or OPP@ferc.gov.

Additional information about the Project is available from the FERC website (www.ferc.gov). Using the “eLibrary” link, select “General Search” from the eLibrary menu, enter the selected date range and “Docket Number” excluding the last three digits (i.e., CP26-23), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

(Authority: 18 CFR 2.1)

Dated: January 14, 2026.
Debbie-Anne A. Reese,
Secretary.

[FR Doc. 2026-00987 Filed 1-16-26; 8:45 am]

BILLING CODE 6717-01-P